INTERNATIONAL TRADE COMMISSION

[Investigation Nos. 731-TA-929-931 (Review)]

Silicomanganese From India, Kazakhstan, and Venezuela

Determinations

On the basis of the record ¹ developed in the subject five-year reviews, the United States International Trade Commission (Commission) determines, pursuant to section 751(c) of the Tariff Act of 1930 (19 U.S.C. 1675(c)), that revocation of the antidumping duty orders on silicomanganese from India, Kazakhstan, and Venezuela would be likely to lead to continuation or recurrence of material injury to an industry in the United States within a reasonably foreseeable time.

¹ The record is defined in sec. 207.2(f) of the Commission's Rules of Practice and Procedure (19 CFR § 207.2(f)).

Background

The Commission instituted these reviews on April 2, 2007 (72 FR 15726) and determined on July 6, 2007 that it would conduct expedited reviews (72 FR 52581, September 14, 2007).

The Commission transmitted its determinations in these reviews to the Secretary of Commerce on November 28, 2007. The views of the Commission are contained in USITC Publication 3963 (November 2007), entitled Silicomanganese From India, Kazakhstan, and Venezuela: Investigation Nos. 731-TA-929-931 (Review).

By order of the Commission.
Issued: November 28, 2007.
Marilyn R. Abbott,
Secretary to the Commission.

[FR Doc. E7-23353 Filed 11-30-07; 8:45 am]

BILLING CODE 7020-02-P